OFFICE OF PERSONNEL MANAGEMENT

Excepted Service

AGENCY: Office of Personnel Management (OPM).

ACTION: Notice.

SUMMARY: This notice identifies Schedule A, B, and C appointing authorities applicable to a single agency that were established or revoked from October 1, 2019 to October 31, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during October 2019.

Schedule B

No Schedule B Authorities to report during October 2019.

Schedule C

The following Schedule C appointing authorities were approved during October 2019.

Agency name | Organization name | Position title | Authorization No. | Effective date
DEPARTMENT OF AGRICULTURE | Office of the Secretary | White House Liaison | DA200005 | 10/22/2019
|  | Confidential Assistant | DA200010 | 10/29/2019
| Office of the Assistant Secretary for Congressional Relations | Policy and Congressional Advisor | DA200008 | 10/25/2019
| Rural Housing Service | State Director—Louisiana | DA200007 | 10/25/2019
DEPARTMENT OF COMMERCE | Minority Business Development Agency | Special Assistant | DC190170 | 10/04/2019
|  | Senior Advisor | DC200005 | 10/25/2019
| Office of Legislative and Intergovernmental Affairs | Associate Director for Legislative Affairs | DC190155 | 10/10/2019
|  | Intergovernmental Affairs Specialist | DC190156 | 10/10/2019
|  | Legislative Affairs Specialist | DC190154 | 10/11/2019
| Office of the Chief Financial Officer and Assistant Secretary for Administration | Confidential Assistant | DC190171 | 10/17/2019
| Office of the General Counsel | Counsel | DC190166 | 10/11/2019
|  | Director of Operations for Special Projects | DC190159 | 10/24/2019
DEPARTMENT OF DEFENSE | Office of the Assistant Secretary of Defense (Legislative Affairs) | Special Assistant | DD190210 | 10/16/2019
| Office of the Deputy Under Secretary for Policy | Special Assistant | DD200011 | 10/18/2019
DEPARTMENT OF THE AIR FORCE | Office of Assistant Secretary Air Force for Acquisition | Personal and Confidential Assistant | DF200001 | 10/24/2019
DEPARTMENT OF EDUCATION | Office of the General Counsel | Attorney Adviser (Deputy Special Counsel) | DB190132 | 10/02/2019
| Office for Civil Rights | Attorney Adviser (Special Counsel) | DB190133 | 10/02/2019
DEPARTMENT OF ENERGY | Office of the Assistant Secretary for Congressional and Intergovernmental Affairs | Deputy Assistant Secretary for Senate Affairs | DE200006 | 10/07/2019
|  | Legislative Affairs Advisor | DE200008 | 10/28/2019
| Office of the Assistant Secretary for Energy Efficiency and Renewable Energy | Special Advisor | DE200004 | 10/08/2019
| Office of the Assistant Secretary for Environmental Management | Chief of Staff | DE190207 | 10/07/2019
| Office of Economic Impact and Diversity | Chief of Staff | DE200003 | 10/09/2019
| Office of Management | Director of Operations | DE200009 | 10/28/2019
| Office of Public Affairs | Senior Content Creator | DE190208 | 10/08/2019
| Office of Scheduling and Advance | Director of Scheduling | DE190203 | 10/07/2019
| Office of the Secretary | Special Assistant | DE200002 | 10/07/2019
ENVIRONMENTAL PROTECTION AGENCY | Office of the Assistant Administrator for Air and Radiation | Executive Assistant for the Office of Air and Radiation | EP200009 | 10/22/2019
| Office of the Associate Administrator for Policy | Senior Advisor for Science and Policy | EP190128 | 10/01/2019
|  | Associate Chief of Staff for the Office of Policy | EP200004 | 10/07/2019
|  | Policy Assistant | EP200001 | 10/17/2019
| Office of the Executive Secretariat | Special Advisor | EP200005 | 10/24/2019
| Office of the General Counsel | Attorney-Advisor (General) | EP190143 | 10/04/2019
EXPORT-IMPORT BANK | Office of the Chairman | Assistant | EB200002 | 10/10/2019
|  | Special Advisor and Deputy Scheduler (2) | EB200004 | 10/25/2019
|  |  | EB200006 | 10/29/2019
| Office of Communications | Deputy Press Secretary | EB200005 | 10/31/2019
DEPARTMENT OF HEALTH AND HUMAN SERVICES | Office of the Assistant Secretary for Health | Advisor | DH190255 | 10/02/2019
| Office of Administration for Children and Families | Policy Advisor | DH190266 | 10/09/2019
|  | Advisor | DH190120 | 10/31/2019
| Office of the Assistant Secretary for Legislation | Senior Advisor | DH200008 | 10/31/2019
DEPARTMENT OF HOMELAND SECURITY | Cybersecurity and Infrastructure Security Agency (CISA) | Special Assistant | DM200022 | 10/25/2019
|  | Policy Advisor | DM200011 | 10/29/2019
| Federal Emergency Management Agency | Deputy Press Secretary | DM190315 | 10/29/2019
| Office of Countering Weapons of Mass Destruction (CWMD) | Senior Advisor | DM200019 | 10/25/2019
| Office of the Assistant Secretary for Policy | Confidential Assistant | DM200002 | 10/17/2019
| Office of the Assistant Secretary for Public Affairs | Assistant Press Secretary | DM190319 | 10/03/2019
| Office of the Chief of Staff | Advance Representative (2) | DM190301 | 10/01/2019
|  |  | DM200024 | 10/25/2019
|  | Special Assistant | DM200028 | 10/29/2019
| Office of the United States Citizenship and Immigration Services | Special Assistant | DM190314 | 10/03/2019
| Office of the United States Customs and Border Protection | Special Assistant | DM200016 | 10/29/2019
| Office of the United States Immigration and Customs Enforcement | Special Advisor | DM200021 | 10/29/2019
DEPARTMENT OF HOUSING AND URBAN DEVELOPMENT | Office of Public Affairs | Director of Strategic Communications | DU190128 | 10/01/2019
DEPARTMENT OF THE INTERIOR | Office of the Assistant Secretary—Land and Minerals Management | Counselor—Land and Minerals Management | DI200005 | 10/29/2019
DEPARTMENT OF JUSTICE | Office of Civil Rights Division | Counsel (2) | DJ190214 | 10/09/2019
|  |  | DJ190228 | 10/22/2019
| Office of Legal Policy | Senior Counsel | DJ190245 | 10/17/2019
| Office of the Attorney General | Director of Scheduling | DJ190238 | 10/24/2019
| Office of the Deputy Attorney General | Counsel | DJ190244 | 10/24/2019
DEPARTMENT OF LABOR | Office of Employee Benefits Security Administration | Senior Policy Advisor | DL190184 | 10/11/2019
| Office of Congressional and Intergovernmental Affairs | Regional Representative (3) | DL190157 | 10/01/2019
|  |  | DL200010 | 10/11/2019
|  |  | DL200011 | 10/11/2019
| Office of Federal Contract Compliance Programs | Senior Policy Advisor | DL200013 | 10/11/2019
| Office of the Secretary | Executive Secretary | DL200014 | 10/24/2019
|  | Special Assistant | DL200018 | 10/31/2019
NATIONAL CREDIT UNION ADMINISTRATION | Office of the Board | Director, Office of External Affairs and Communications/Deputy Chief of Staff | CU200002 | 10/15/2019
| Office of Public and Congressional Affairs | Senior Advisor for Communications and Engagement | CU200003 | 10/24/2019
NATIONAL TRANSPORTATION SAFETY BOARD | Office of Board Members | Confidential Assistant | TB200001 | 10/18/2019
OFFICE OF MANAGEMENT AND BUDGET | Office of Health Division | Confidential Assistant | BO200003 | 10/17/2019
| Natural Resource Programs | Confidential Assistant | BO200004 | 10/25/2019
OFFICE OF NATIONAL DRUG CONTROL POLICY | Office of Legislative Affairs | Public Affairs Specialist (Program Support) | QQ190015 | 10/07/2019
|  | Deputy Assistant Director, Office of Legislative Affairs | QQ200001 | 10/07/2019
OFFICE OF PERSONNEL MANAGEMENT | Office of the Director | Director of Advance and Speechwriter | PM200005 | 10/25/2019
SMALL BUSINESS ADMINISTRATION | Office of Investment and Innovation | Special Assistant | SB190032 | 10/04/2019
DEPARTMENT OF STATE | Bureau of Administration | Special Assistant | DS200013 | 10/31/2019
| Bureau of Arms Control, Verification, and Compliance | Senior Advisor | DS200014 | 10/31/2019
| Bureau of Economic and Business Affairs | Special Advisor | DS200001 | 10/08/2019
| Bureau of Legislative Affairs | Legislative Management Officer | DS190129 | 10/09/2019
| Office of Policy Planning | Writer-Editor (Speechwriter) | DS200007 | 10/31/2019
| Office of the Chief of Protocol | Protocol Officer (Ceremonials) | DS200005 | 10/10/2019
| Office of the Secretary | Senior Advisor (2) | DS200002 | 10/08/2019
|  |  | DS200003 | 10/08/2019
|  | Special Advisor | DS200011 | 10/31/2019
| Office of the Under Secretary for Management | Special Assistant | DS200009 | 10/29/2019
DEPARTMENT OF TRANSPORTATION | Office of the Administrator | Special Assistant | DT190126 | 10/10/2019
|  | Senior Governmental Affairs Officer | DT200019 | 10/28/2019
| Office of the Associate Administrator for Highway Policy and Governmental Affairs | Associate Administrator for Policy and Governmental Affairs | DT200003 | 10/16/2019
| Office of the Executive Secretariat | Special Assistant | DT190125 | 10/07/2019
| Immediate Office of the Administrator | Director of Governmental, International and Public Affairs | DT200005 | 10/29/2019
| Office of Pipeline and Hazardous Materials Safety Administration | Senior Policy Advisor | DT200008 | 10/16/2019
DEPARTMENT OF THE TREASURY | Office of the Under Secretary for International Affairs | Special Advisor | DY190120 | 10/01/2019
| Office of the Assistant Secretary for Financial Markets | Special Advisor | DY200005 | 10/29/2019
UNITED STATES INTERNATIONAL TRADE COMMISSION | Office of Commissioner Stayin | Staff Assistant (Legal) | TC200001 | 10/22/2019
| Office of Commissioner Schmidtlein | Staff Assistant (Legal) | TC200003 | 10/22/2019
DEPARTMENT OF VETERANS AFFAIRS | Office of the General Counsel | Special Assistant (Attorney Advisor) | DV200003 | 10/11/2019

The following Schedule C appointing authorities were revoked during October 2019.

Agency name | Organization name | Position title | Request No. | Date vacated
COMMODITY FUTURES TRADING COMMISSION | Office of the Chief Economist | Senior Advisor | CT190007 | 10/18/2019
DEPARTMENT OF AGRICULTURE | Office of the Secretary | Senior Advisor to the Secretary | DA180222 | 10/04/2019
| Farm Service Agency | State Executive Director | DA180230 | 10/15/2019
| Office of the Under Secretary for Food Safety | Confidential Assistant | DA180148 | 10/31/2019
DEPARTMENT OF COMMERCE | Office of Advance, Scheduling and Protocol | Director of Advance, Scheduling and Protocol | DC190060 | 10/25/2019
| Bureau of Industry and Security | Senior Advisor | DC190055 | 10/26/2019
| Office of the General Counsel | Special Advisor | DC190072 | 10/27/2019
| Office of Legislative and Intergovernmental Affairs | Confidential Assistant | DC180165 | 10/31/2019
OFFICE OF THE SECRETARY OF DEFENSE | Office of the Secretary of Defense | Advance Officer | DD180134 | 10/12/2019
| Office of the Under Secretary of Defense (Policy) | Special Assistant | DD180140 | 10/26/2019
| Washington Headquarters Services | Defense Fellow (2) | DD190058 | 10/19/2019
|  |  | DD180114 | 10/05/2019
| Office of the Deputy Under Secretary for Policy | Special Assistant | DD190171 | 10/05/2019
| Office of the Assistant Secretary of Defense (Legislative Affairs) | Special Assistant (2) | DD180118 | 10/26/2019
|  |  | DD190070 | 10/26/2019
DEPARTMENT OF THE ARMY | Office of the Assistant Secretary of Army (Installations, Energy and Environment) | Special Assistant | DW180003 | 10/31/2019
DEPARTMENT OF EDUCATION | Department of Education | Special Assistant (Supervisory) | DB190063 | 10/12/2019
| Office for Civil Rights | Attorney Advisor | DB190073 | 10/12/2019
| Office of the General Counsel | Attorney Advisor | DB190099 | 10/12/2019
DEPARTMENT OF ENERGY | Office of the Assistant Secretary for Energy Efficiency and Renewable Energy | Special Assistant | DE180160 | 10/12/2019
| Office of the Assistant Secretary for Fossil Energy | Senior Advisor for Regional Economic Development | DE180098 | 10/12/2019
| Office of the Assistant Secretary for International Affairs | Special Assistant | DE190041 | 10/12/2019
| Office of Science | Senior Advisor | DE180129 | 10/12/2019
| Office of the Secretary | Special Assistant to the Staff Secretary | DE190057 | 10/12/2019
DEPARTMENT OF HEALTH AND HUMAN SERVICES | Office of the Assistant Secretary for Financial Resources | Director of Congressional Relations | DH190037 | 10/12/2019
|  | Special Assistant | DH190069 | 10/26/2019
| Office of the Assistant Secretary for Legislation | Director of Congressional Liaison | DH190034 | 10/17/2019
| Office of the Assistant Secretary for Public Affairs | Advisor—Strategic Communications | DH190068 | 10/11/2019
|  | Director of Communication Strategy and Campaigns | DH180236 | 10/17/2019
| Office of the Secretary | Briefing Book Coordinator and Policy Advisor | DH190098 | 10/12/2019
DEPARTMENT OF HOUSING AND URBAN DEVELOPMENT | Office of the Administration | Advance Coordinator | DU190020 | 10/26/2019
| Office of Public Affairs | Deputy Assistant Secretary for Public Affairs | DU180094 | 10/31/2019
|  | Director of Strategic Communications | DU180064 | 10/31/2019
DEPARTMENT OF JUSTICE | Office of Antitrust Division | Counsel | DJ180049 | 10/15/2019
DEPARTMENT OF LABOR | Office of Public Affairs | Chief of Staff | DL190069 | 10/12/2019
|  | Press Assistant | DL180057 | 10/12/2019
DEPARTMENT OF STATE | Bureau of Legislative Affairs | Special Assistant | DS180070 | 10/12/2019
| Bureau of Education and Cultural Affairs | Special Assistant | DS180071 | 10/22/2019
| Bureau of Economic and Business Affairs | Special Assistant | DS180056 | 10/26/2019
| Office of the Under Secretary for Management | Staff Assistant | DS190084 | 10/26/2019
| Bureau of Western Hemisphere Affairs | Senior Advisor | DS190023 | 10/31/2019
DEPARTMENT OF THE TREASURY | Department of the Treasury | Assistant Executive Secretary | DY180012 | 10/13/2019
DEPARTMENT OF TRANSPORTATION | Office of the Assistant Secretary for Governmental Affairs | Governmental Affairs Officer | DT180089 | 10/26/2019
|  | Special Assistant | DT180042 | 10/26/2019
| Office of the Under Secretary of Transportation for Policy | Senior Policy Advisor | DT190104 | 10/26/2019
DEPARTMENT OF VETERANS AFFAIRS | Office of the Assistant Secretary for Public and Intergovernmental Affairs | Special Assistant/Deputy Press Secretary | DV180065 | 10/07/2019
ENVIRONMENTAL PROTECTION AGENCY | Office of the General Counsel | Attorney Advisor (General) (2) | EP190038 | 10/12/2019
|  |  | EP180080 | 10/13/2019
| Office of Public Affairs | Writer (Speeches) | EP190068 | 10/31/2019
EXPORT-IMPORT BANK | Office of the Chief of Staff | Executive Secretary | EB190007 | 10/12/2019
GENERAL SERVICES ADMINISTRATION | National Capital Region | Special Assistant to the Regional Administrator | GS190027 | 10/12/2019
OFFICE OF MANAGEMENT AND BUDGET | Natural Resource Programs | Confidential Assistant | BO190004 | 10/12/2019
| Office of Health Division | Confidential Assistant | BO190014 | 10/26/2019
| Office of the Director | Confidential Assistant | BO180028 | 10/26/2019
OFFICE OF NATIONAL DRUG CONTROL POLICY | Office of Legislative Affairs | Legislative Analyst | QQ190008 | 10/12/2019
| Office of Public Affairs | Public Affairs Specialist (Program Support) | QQ180004 | 10/12/2019
OFFICE OF PERSONNEL MANAGEMENT | President's Commission on White House Fellowships | Confidential Assistant to the Director | PM190038 | 10/26/2019

(Authority: 5 U.S.C. 3301 and 3302; E.O. 10577, 3 CFR, 1954-1958 Comp., p. 218.)

Alexys Stanley,
Regulatory Affairs Analyst, Office of Personnel Management.

[FR Doc. 2020-04273 Filed 3-2-20; 8:45 am]

BILLING CODE 6325-39-P